DEPARTMENT OF ENERGY

Federal Energy Regulatory Commission

[Docket Nos. IC22-24-000 and RD22-2-000]

Commission Information Collection Activities (Ferc-725z); Comment Request; Extension

AGENCY: Federal Energy Regulatory Commission, DOE.

ACTION: Notice of information collection and request for comments.

SUMMARY: In compliance with the requirements of the Paperwork Reduction Act of 1995, the Federal Energy Regulatory Commission (Commission or FERC) is soliciting public comment on the currently approved information collection, FERC-725Z (Mandatory Reliability Standards: IRO Reliability Standards), which will be submitted to the Office of Management and Budget (OMB) for review. No comments were received on the 60-day notice published on August 3, 2022 for IC22-24-000. This notice includes modifications of Reliability Standard IRO-008 (version update) included in FERC-725Z as published in Docket No. RD-22-2-000. The burden totals have been merged to include the new updated version of IRO-008-3.

DATES: Comments on the collection of information are due November 14, 2022.

ADDRESSES: Send written comments on FERC-725Z to OMB through www.reginfo.gov/public/do/PRAMain. Attention: Federal Energy Regulatory Commission Desk Officer. Please identify the OMB Control Number (1902-0276) in the subject line of your comments. Comments should be sent within 30 days of publication of this notice to www.reginfo.gov/public/do/PRAMain.

Please submit copies of your comments to the Commission. You may submit copies of your comments (identified by Docket No. IC22-24-000) by one of the following methods:

Electronic filing through https://www.ferc.gov, is preferred.

• Electronic Filing: Documents must be filed in acceptable native applications and print-to-PDF, but not in scanned or picture format.

• For those unable to file electronically, comments may be filed by USPS mail or by hand (including courier) delivery.

○ Mail via U.S. Postal Service Only: Addressed to: Federal Energy Regulatory Commission, Secretary of the Commission, 888 First Street NE, Washington, DC 20426.

○ Hand (including courier) delivery: Deliver to: Federal Energy Regulatory Commission, Secretary of the Commission, 12225 Wilkins Avenue, Rockville, MD 20852.

Instructions: OMB submissions must be formatted and filed in accordance with submission guidelines at www.reginfo.gov/public/do/PRAMain. Using the search function under the “Currently Under Review” field, select Federal Energy Regulatory Commission; click “submit,” and select “comment” to the right of the subject collection.

FERC submissions must be formatted and filed in accordance with submission guidelines at: https://www.ferc.gov. For user assistance, contact FERC Online Support by email at ferconlinesupport@ferc.gov, or by phone at: (866) 208-3676 (toll-free).

Docket: Users interested in receiving automatic notification of activity in this docket or in viewing/downloading comments and issuances in this docket may do so at https://www.ferc.gov/ferc-online/overview.

FOR FURTHER INFORMATION CONTACT: Ellen Brown may be reached by email at DataClearance@FERC.gov, telephone at (202) 502-8663.

SUPPLEMENTARY INFORMATION:

Title: FERC-725Z (Mandatory Reliability Standards: IRO Reliability Standards).

OMB Control No.: 1902-0276.

Type of Request: Extension for the currently approved information collection and approval of revisions made by Docket No. RD22-2 (IRO-008-3 version update).

Abstract: On August 8, 2005, The Electricity Modernization Act of 2005, which is Title XII of the Energy Policy Act of 2005 (EPAct 2005), was enacted into law.¹ Under section 215 of the Federal Power Act (FPA) implemented in 18 CFR 40, the Commission requires a Commission-certified Electric Reliability Organization (ERO) to develop mandatory and enforceable Reliability Standards,² which are subject to Commission review and approval. In 2006, the Commission established a process to select and certify an ERO and, subsequently, certified the North American Electric Reliability Corporation (NERC) as the ERO.³

¹ The Energy Policy Act of 2005 (EPAct), Public Law No 109-58, Title XII, Subtitle A, 119 Stat. 594, 941 (2005), codified at 16 U.S.C. 824o (2000).

² The Federal Power Act (as modified by the EPAct) states “[t]he terms “reliability standard” means a requirement, approved by the Commission under this section, to provide for reliable operation of the bulk-power system. The term includes requirements for the operation of existing bulk-power system facilities, including cybersecurity protection, and the design of planned additions or modifications to such facilities to the extent necessary to provide for reliable operation of the bulk-power system, but the term does not include any requirement to enlarge such facilities or to construct new transmission capacity or generation capacity.”

³ North American Electric Reliability Corp., 116 FERC ¶ 61,062, order on reh'g and compliance, 117 FERC ¶ 61,126 (2006), order on compliance, 118 FERC ¶ 61,190, order on reh'g, 119 FERC ¶ 61,046 (2007), aff'd sub nom. Alcoa Inc. v. FERC, 564 F.3d 1342 (D.C. Cir. 2009).

The ERO develops proposed Reliability Standards ⁴ and, if approved by NERC, submits them to the Commission for review and approval. When the standards are approved by the Commission, the Reliability Standards become mandatory and must be enforced by the ERO, subject to Commission oversight.

⁴ The NERC Standard Processes Manual, Appendix 3A of the NERC Rules Of Procedure, (posted at https://www.nerc.com/FilingsOrders/us/RuleOfProcedureDL/SPM_Clean_Mar2019.pdf) describes the process for developing, modifying, withdrawing, or retiring a Reliability Standard.

The IRO Reliability Standards (IRO-001-4, IRO-002-7, IRO-008-2, IRO-009-2, IRO-010-2, IRO-014-3, IRO-017-1, and IRO-018-1) mentioned below are included in FERC-725Z:

IRO-001-4

The purpose of IRO-001-4 is to establish the responsibility of Reliability Coordinators to act or direct other entities to act.

IRO-002-7

In a joint petition dated May 30, 2019, the North American Electric Reliability Corporation (“NERC”) and Western Electricity Coordinating Council (“WECC”) requested Commission approval for Reliability Standard IRO-002-6 (now IRO-002-7) (Reliability Coordination, Monitoring and Analysis). NERC and WECC stated that the “Reliability Standard IRO-002-7 reflects the addition of a regional Variance containing additional requirements applicable to Reliability Coordinators providing service to entities in the Western Interconnection.” NERC maintains that the data exchange capability requirement in Reliability Standard IRO-002-7, Requirement R1 is covered by Reliability Standard IRO-008-2.

IRO-008-3 as Approved in Docket No. RD22-2 (Formerly IRO-008-2)

Requirement R1 obligates the reliability coordinator (RC) to perform operational planning analyses to assess whether the planned operations for the next-day will exceed System Operating Limits and Interconnection Reliability Operating Limits within its wide area. NERC asserts that “to perform the required operational planning analyses, the Reliability Coordinator must have the data it deems necessary from those entities that possess it.” The revisions in IRO-008-3 apply to the RC and requires RCs to perform analyses and assessments to prevent instability, uncontrolled separation, or cascading. NERC added a new requirement requiring an RC to use its SOL methodology when determining SOL exceedances for its analyses and assessments and further revised a requirement requiring the RC to use its SOL risk-based notification framework when communicating SOL or IROL exceedances.

IRO-009-2

Currently effective IRO-009-2, applicable to reliability coordinators, is to prevent instability, uncontrolled separation, or cascading outages that adversely impact the reliability of the interconnection by ensuring prompt action to prevent or mitigate instances of exceeding Interconnection Reliability Operating Limits (IROLs).

IRO-010-2

Additionally, regarding data exchange, NERC cites Reliability Standard IRO-010-2 (Reliability Coordinator Data Specification and Collection) and its stated purpose of preventing instability, uncontrolled separation, or cascading outages “by ensuring the Reliability Coordinator has the data it needs to monitor and assess the operation of its Reliability Coordinator Area.” NERC states that under Reliability Standard IRO-010-2, Requirements R1, R2, and R3, the reliability coordinator must specify the data necessary for it to perform its operational planning analyses and provide the specifications to the entities from which it needs data who then must comply with the data request using a mutually agreeable format and security protocols.

IRO-014-3

The purpose of Reliability Standard IRO-014-3 is to ensure that each Reliability Coordinator's operations are coordinated such that they will not adversely impact other Reliability Coordinator Areas and to preserve the reliability benefits of interconnected operations.

IRO-017-1

The purpose of IRO-017-1 (Outage Coordination) is to ensure that outages are properly coordinated in the Operations Planning time horizon and Near-Term Transmission Planning Horizon. Reliability coordinators, planning coordinators, balancing authorities, transmission owners, and transmission planners are applicable entities for IRO-017-1.

IRO-018-1

IRO-018-1 (Reliability Coordinator Real-time Reliability Monitoring and Analysis Capabilities), requirement R3, requires reliability coordinators to have an alarm process monitor that provides notification to system operators when the failure of a real-time monitoring alarm processor has occurred.

All IRO Standards build on monitoring real-time assessments and supporting effective situational awareness. The Reliability Standards accomplish this by requiring applicable entities to: (1) provide notification to operators of real-time monitoring alarm failures; (2) provide operators with indications of the quality of information being provided by their monitoring and analysis capabilities; and (3) address deficiencies in the quality of information being provided by their monitoring and analysis capabilities.

NERC observes that the performance of the requirements it cites is premised on the existence of data exchange capabilities, regardless of whether a separate requirement expressly requires the reliability coordinator to have data exchange capabilities in place.

Type of Respondents: Reliability coordinators (RC), planning coordinators (PC), balancing authorities (BA), transmission owners (TO), transmission planners (TP), Transmission Operators (TOP) are included entities for FERC-725Z.

Estimate of Annual Burden: ⁵ The Commission presents the estimates in the annual public reporting burden and cost ⁶ as follows.

⁵ Burden is defined as the total time, effort, or financial resources expended by persons to generate, maintain, retain, or disclose or provide information to or for a federal agency. For further explanation of what is included in the information collection burden, refer to 5 Code of Federal Regulations 1320.3.

⁶ The hourly cost figures, for salary plus benefits, for the standards are based on Bureau of Labor Statistics (BLS) information (at http://www.bls.gov/oes/current/naics2_22.htm), as of May 2021, and benefits information for March 2021 (at https://www.bls.gov/news.release/ecec.nr0.htm). For salary plus benefits, for reporting requirements, an electrical engineer (code 17-2071) is $72.15/hour (wages plus benefits) for the information collection requirements.

Due to the version update of IRO-008-2 (now IRO-008-3) in Docket No. RD22-2, the burden increased to 977 annual responses and 53,142 annual burden hours.

FERC-725Z—Reporting and Recordkeeping Requirements for Reliability Standards IRO-001, IRO-002, IRO-008, IRO-009, IRO-010, IRO-014, IRO-017, and IRO-018
Information collection requirements | Number of respondents & type of entity | Annual number of responses per respondent | Total number of responses | Average burden hours & cost per response ($) | Total annual burden hours & total annual cost ($) | Total annual burden cost
| (1) | (2) | (1) * (2) = (3) | (4) | (3) * (4) = (5) | (5)/(1)
IRO-001-4 | 12 (RC) | 1 | 12 | 24 hrs. $1,731.60 | 288 hrs. $20,779.20 | $1,731.60
| 168 (TOP) | 1 | 168 | 12 hrs. $865.80 | 2,016 hrs. $145,454.40 | 865.80
IRO-002-7 | 12 (RC) | 1 | 12 | 24 hrs., $1,731.60 | 288 hrs., $20,779.20 | 1,731.60
IRO-008-2 (now IRO-008-3) See table below | 12 (RC) | 1 | 12 | 160 hrs., $11,544 | 1,920 hrs., $138,528 | 11,544
IRO-009-2 | 12 (RC) | 1 | 12 | 12 hrs. $865.80 | 144 hrs. $10,389.60 | 865.80
IRO-010-3 | 12 (RC) | 1 | 12 | 24 hrs., $1,731.60 | 288 hrs., $20,779.20 | 1,731.60
IRO-014-3 | 12 (RC) | 1 | 12 | 12 hrs., $865.80 | 144 hrs., $10,389.60 | 865.80
IRO-017-1 | 12 (RC) | 1 | 12 | 1,200 hrs., $86,580 | 14,400 hrs., $1,038,960 | 86,580
| 63 (PC) | 1 | 63 | 96 hrs., $6,926.40 | 6,048 hrs., $436,363.20 | 6,926.40
| 204 (TP) | 1 | 204 | 96 hrs., $6,926.40 | 19,584 hrs., $1,412,985.60 | 6,926.40
| 326 (TO) | 1 | 326 | 8 hrs., $577.20 | 2,608 Hrs., $188,167.20 | 577.20
| 96 (BA) | 1 | 96 | 8 hr., $577.20 | 758 hrs., $54,689.70 | 577.20
IRO-018-1 | 12 (RC) | 1 | 12 | 34 hrs., $2,453.10 | 288 hrs., $20,779.20 | 2,453.10
Total for FERC-725Z |  |  | 953 |  | 48,774 hrs., $3,519,044.10 |

In reviewing FERC-725Z for the IRO Reliability Standards, the number of entities/respondents was checked and broken down into type of entity for each reliability standard. In the past, combining reliability standards caused the same reliability standard to be inadvertently accounted for multiple times, resulting in the previously recorded 6,686 responses. These numbers were revised and updated to provide the new calculated total of 953 responses. Staff looked at each reliability standard as its own unique project and in doing so eliminated the multiple entity count by making a more accurate representation of the number of responses.⁷

⁷ According to the NERC Registry list of May 6, 2022.

FERC-725Z (Modifications Due to RD22-2) ⁸
Ongoing Estimate Year 3 Ongoing
IRO-008-3 | RC (12) | 1 | 12 | 32 hrs., $2784 | 384 hrs. $33,408.
One-Time Estimate Years 1 and 2
IRO-008-3 | RC (12) | 1 | 12 | 16 hrs., $1,392 | 144 hrs. $16,704.
Sub-Total for FERC-725Z (as modified in RD22-2) |  |  | 24 |  | 528 hrs. $50,112.
Sub-Total for IRO-008-3 One-time |  |  | 12 |  | 2,304 hrs., $200,448.
Sub-Total for IRO-008-3 Ongoing |  |  | 12 |  | 2,064 hrs., $179,568.
Total for FERC-725 Z |  |  | 977 |  | 53,142 hrs., $3,834,195.3.

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

⁸ FERC staff estimates that industry costs for salary plus benefits are similar to Commission costs. The FERC 2021 average salary plus benefits for one FERC full-time equivalent (FTE) is $180,703/year (or $87.00/hour) posted by the Bureau of Labor Statistics for the Utilities sector (available at https://www.bls.gov/oes/current/naics3_221000.htm).

Dated: October 6, 2022.
Debbie-Anne A. Reese,
Deputy Secretary.

[FR Doc. 2022-22225 Filed 10-12-22; 8:45 am]

BILLING CODE 6717-01-P